NUCLEAR REGULATORY COMMISSION

[NRC-2015-0033]

Information Collection: Physical Protection of Category 1 and Category 2 Quantities of Radioactive Material; Correction

AGENCY: Nuclear Regulatory Commission.

ACTION: Notice of submission to the Office of Management and Budget; correction.

SUMMARY: The U.S. Nuclear Regulatory Commission (NRC) is correcting a notice that was published in the Federal Register (FR) on October 26, 2015, regarding the submission to the Office of Management and Budget (OMB) of a request to renew an existing collection of information entitled, “Physical Protection of Category 1 and Category 2 Quantities of Radioactive Material.” This action is necessary to correct information about the number of respondents to this information collection.

DATES: The correction is effective November 18, 2015.

ADDRESSES: Submit comments directly to the OMB reviewer at: Vlad Dorjets, Desk Officer, Office of Information and Regulatory Affairs (3150-0214) NEOB-10202, Office of Management and Budget, Washington, DC 20503; telephone: 202-395-7315, email: oira_submission@omb.eop.gov.

FOR FURTHER INFORMATION CONTACT: Tremaine Donnell, NRC Clearance Officer, U.S. Nuclear Regulatory Commission, Washington, DC 20555-0001; telephone: 301-415-6258; email: INFOCOLLECTS.Resource@nrc.gov.

SUPPLEMENTARY INFORMATION: In the FR on October 26, 2015, in FR Doc. 2015-27063, on page 65254, in the third column, number 8, correct “1,500 (300 NRC Licensees + 1,200 Agreement State Licensees)” to read “6,000 (300 NRC Licensees + 1,200 Agreement State Licensees + 4,500 individuals making a personal history disclosure as part of an application for an unescorted access authorization).”

Dated at Rockville, Maryland, this 12th day of November 2015.
For the Nuclear Regulatory Commission.
Tremaine Donnell,
NRC Clearance Officer, Office of the Chief Information Officer.

[FR Doc. 2015-29353 Filed 11-17-15; 8:45 am]

BILLING CODE 7590-01-P